DEPARTMENT OF THE INTERIOR

National Park Service

[NPS-WASO-NRNHL-10821; 2200-3200-665]

National Register of Historic Places; Notification of Pending Nominations and Related Actions

Nominations for the following properties being considered for listing or related actions in the National Register were received by the National Park Service before July 6, 2012. Pursuant to § 60.13 of 36 CFR Part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service, 1201 Eye St. NW., 8th floor, Washington, DC 20005; or by fax, 202-371-6447. Written or faxed comments should be submitted by August 15, 2012. Before including your address, phone number, email address, or other personal identifying information in your comment, you should be aware that your entire comment—including your personal identifying information—may be made publicly available at any time. While you can ask us in your comment to withhold your personal identifying information from public review, we cannot guarantee that we will be able to do so.

Dated: July 11, 2012
J. Paul Loether,
Chief, National Register of Historic Places/ National Historic Landmarks Program.

ALABAMA

Madison County

Five Points Historic District, Roughly Beirne, Clinton, Eustis, Grayson, McCullough, Pratt, Randolph, Russell, Ward, Wellman, & Wells Aves., Huntsville, 12000522

Maple Hill Cemetery, 203 Maple Hill Dr., Huntsville, 12000523

MINNESOTA

Stearns County

St. Cloud Veterans Administration Hospital Historic District, (United States Second Generation Veterans Hospitals MPS) 4801 Veterans Dr., St. Cloud, 12000524

MISSOURI

Jackson County

85th and Manchester “Three Trails” Trail Segment, (Santa Fe Trail MPS) NW. corner of 85th & Manchester, Kansas City, 12000525

New Santa Fe “Three Trails” Trail Swales, (Santa Fe Trail MPS) W. Santa Fe Trail, ½ blk. W. of jct. with Madison Ave., Kansas City, 12000526

NEW JERSEY

Burlington County

White Hill Mansion, 217 4th St., Fieldsboro, 12000527

Mercer County

Roebling's, John A., Sons Company, Trenton, N.J., Block 3, Bounded by Hamilton Ave., Clark, Elmer, & E. Canal Sts., Trenton, 12000528

Monmouth County

Towers, The, 27 Prospect Cir., Atlantic Highlands, 12000529

Morris County

Mount Hope Miners' Church, Mount Hope Rd., Rockaway, 12000530

NEW YORK

Broome County

Ansco Company Charles Street Factory Buildings, (Industrial Resources of Broome County, New York MPS) 15 & 17 Charles, & 219 Clinton Sts., Binghamton, 12000531

General Cigar Company—Ansco Camera Factory Building, (Industrial Resources of Broome County, New York MPS) 16 Emma St., Binghamton, 12000532

Essex County

Talichito, Nesa Rd., Schroon Lake, 12000533

Kings County

Loew's Kings Theatre, 1027 Flatbush Ave., Brooklyn, 12000534

Westchester County

Hartsdale Pet Cemetery, 75 N. Central Park Ave., Greenburgh, 12000535

SOUTH DAKOTA

Yankton County

House of Gurney Historic District, 106, 109, & 110 Capital St., Yankton, 12000536

VIRGINIA

Arlington County

Georgetown Pike, From DC/VA boundary at Chain Bridge to jct. with Leesburg Pike at Seneca Rd., Arlington, 12000537

Augusta County

Mt. Airy, Access Rd. off of Technology Dr., Verona, 12000538

Fairfax County

Sydenstricker School, 8511 Hooes Rd., Springfield, 12000539

Fluvanna County

Seay's Chapel Methodist Church, 4916 Shores Rd., Palmyra, 12000540

Loudoun County

Furr Farm, 40590 Snickersville Tnpk., Aldie, 12000541

Lynchburg Independent city, Armstrong Elementary School, 1721 Monsview Pl., Lynchburg (Independent City), 12000542

Mathews County

Riverlawn, 134 Williamsdale Ln., Mathews, 12000543

Middlesex County

F.D. CROCKETT (log deck boat), 287 Jackson Creek Rd., Deltaville, 12000544

Richmond Independent city, Armitage Manufacturing Company, 3200 Williamsburg Ave., Richmond (Independent City), 12000545

Southern Biscuit Company, 900 Terminal Pl., Richmond (Independent City), 12000546

Virginia Beach Independent city, Briarwood, 1500 Southwick Rd., Virginia Beach (Independent City), 12000547

A request for removal has been made for the following resources:

PENNSYLVANIA

Bradford County

Bridge in Athens Township, (Highway Bridges Owned by the Commonwealth of Pennsylvania, Department of Transportation MPS) LR 08081 over Susquehanna River, Athens, 88000821

Bucks County

Fretz Farm, Almshouse Rd. and PA 611 (Doylestown Township) Doylestown, 85000459

[FR Doc. 2012-18576 Filed 7-30-12; 8:45 am]

BILLING CODE 4312-51-P